DEPARTMENT OF DEFENSE

GENERAL SERVICES ADMINISTRATION

NATIONAL AERONAUTICS AND SPACE ADMINISTRATION

48 CFR Chapter 1

[Docket FAR-2007-0002, Sequence 2]

Federal Acquisition Regulation; Federal Acquisition Circular 2005-17; Small Entity Compliance Guide

AGENCIES: Department of Defense (DoD), General Services Administration (GSA), and National Aeronautics and Space Administration (NASA).

ACTION: Small Entity Compliance Guide.

SUMMARY: This document is issued under the joint authority of the Secretary of Defense, the Administrator of General Services and the Administrator of the National Aeronautics and Space Administration. This Small Entity Compliance Guide has been prepared in accordance with Section 212 of the Small Business Regulatory Enforcement Fairness Act of 1996. It consists of a summary of the rule appearing in Federal Acquisition Circular (FAC) 2005-17, which amends the FAR. An asterisk (*) next to a rule indicates that a regulatory flexibility analysis has been prepared. Interested parties may obtain further information regarding this rule by referring to FAC 2005-17, which precedes this document. These documents are also available via the Internet at http://www.regulations.gov/.

FOR FURTHER INFORMATION CONTACT: Laurieann Duarte, FAR Secretariat, (202) 501-4225. For clarification of content, contact the analyst whose name appears in the table below.

List of Rule in FAC 2005-17
Item | Subject | FAR case | Analyst
*I | Government Property | 2004-025 | Parnell.

Item I—Government Property (FAR Case 2004-025)

This final rule amends Federal Acquisition Regulation (FAR) Part 45, Government Property, and associated FAR language and clauses to implement a policy that fosters efficiency, flexibility, innovation and creativity while continuing to protect the Government's interest. This rule simplifies procedures, clarifies language, and eliminates obsolete requirements related to the management and disposition of Government property in the possession of contractors by moving, clarifying, and deleting definitions; establishing a life-cycle approach to property management; and, sanctioning the use of consensus standards and/or industry-leading standards and practices for property management. This rule deletes outdated clauses, combines selected FAR property clauses into a single clause, and implements a new clause designed for military base and installation-level contracts awarded under the OMB Circular A-76 process. FAR language and associated clauses for special tooling, special test equipment and facilities contracts is deleted. It is not the Government's intention to change the intent or meaning of the language pertaining to “title to Government property.”

Dated: May 2, 2007.
Al Matera,
Acting Director, Contract Policy Division.

[FR Doc. 07-2255 Filed 5-14-07; 8:45 am]

BILLING CODE 6820-EP-S